DEPARTMENT OF TRANSPORTATION

Federal Aviation Administration

14 CFR Part 39

[Docket No. 2001-NM-111-AD]

RIN 2120-AA64

Airworthiness Directives; Airbus Model A300 B2 Series Airplanes; A300 B4 Series Airplanes; A300 B4-600, B4-600R, F4-600R, and C4-605R Variant F (Collectively Called A300-600) Series Airplanes; and A310 Series Airplanes

AGENCY: Federal Aviation Administration, DOT.

ACTION: Notice of proposed rulemaking (NPRM).

SUMMARY: This document proposes the supersedure of an existing airworthiness directive (AD), applicable to certain Airbus Model A300 series airplanes, that currently requires either a one-time ultrasonic inspection, or repetitive visual inspections and eventual ultrasonic inspection, to detect cracking of the longitudinal skin splice above the mid-passenger door panels, and corrective actions if necessary. This action would require repetitive ultrasonic inspections to detect cracking of certain skin lap joints in additional areas of the fuselage and repair if necessary. This action also would expand the applicability of the existing AD to include additional airplanes. The actions specified by the proposed AD are intended to detect and correct cracking of certain skin lap joints, which could result in reduced structural integrity and decompression of the airplane. This action is intended to address the identified unsafe condition.

DATES: Comments must be received by January 20, 2004.

ADDRESSES: Submit comments in triplicate to the Federal Aviation Administration (FAA), Transport Airplane Directorate, ANM-114, Attention: Rules Docket No. 2001-NM-111-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-111-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Anthony Jopling, Aerospace Engineer, International Branch, ANM-116, FAA, Transport Airplane Directorate, 1601 Lind Avenue, SW., Renton, Washington 98055-4056: telephone (425) 227-2190: fax (425) 227-1149.

SUPPLEMENTARY INFORMATION:

Comments Invited

Interested persons are invited to participate in the making of the proposed rule by submitting such written, views, or arguments as they may desire. Communications shall identify the Rules Docket number and be submitted in triplicate to the address specified above. All communications received on or before the closing date for comments, specified above, will be considered before taking action on the proposed rule. The proposals contained in this action may be changed in light of comments received.

Submit comments using the following format:

• Organize comments issue-by issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-111-AD.” The postcard will be date stamped and returned to the commenter.

Availability of NPRMs

Any person may obtain a copy of this NPRM by submitting a request to the FAA, Transport Airplane Directorate, ANM-114, Attention: Rules Docked No. 2001-NM-111-AD, 1601 Lind Avenue, SW., Renton, Washington 98055-4056.

Discussion

On January 31, 2000, the FAA issued AD 2000-02-39, amendment 39-11557 (65 FR 5756, February 7, 2000), applicable to certain Airbus Model A300 series airplanes, to require either a one-time ultrasonic inspection, or repetitive visual inspections and eventual ultrasonic inspection, to detect cracking of the longitudinal skin splice above the mid-passenger door panels, and corrective actions if necessary. That action was prompted by notification from the Direction Générale de l'Aviation Civile (DGAC), which is the airworthiness authority for France, that during a routine maintenance check on an Airbus Model A300 series airplane, a horizontal crack of 35.6 inches was detected in the surrounding panel above the right mid-passenger door. The requirements of that AD are intended to detect and correct cracking of the longitudinal skin splice (skin lap joint) above the mid-passenger door panels, which could result in reduced structural integrity of the fuselage pressure vessel.

Actions Since Issuance of Previous Rule

Since the issuance of that AD, further analysis by the manufacturer revealed that additional areas with similar stress loading and design may also be affected by cracking. Because of the similar stress loading and design, cracking of certain skin lap joints may exist on all Airbus Model A300 B4-600, B4-600R, F4-600R, C4-605R Variant F (collectively called A300-600), and A310 series airplanes; therefore, those airplanes may also be subject to the same unsafe condition described above. The DGAC issued French airworthiness directive 2002-639(B), dated December 24, 2002, to ensure the continued airworthiness of these airplanes in France. That French airworthiness directive supersedes French airworthiness directives 2000-001-300(B)R1 and 2001-071(B).

Explanation of Relevant Service Information

For Model A300 B2 and A300 B4 series airplanes, Airbus has issued Service Bulletins A300-53-0354, Revision 02, dated December 13, 2001; A300-53-0356, dated December 26, 2000; and A300-53-0357, dated December 26, 2000. These service bulletins describe procedures for repetitive ultrasonic inspections to detect cracking in certain skin lap joints, and repair if necessary.

• Service Bulletin A300-53-0354 describes procedures for repetitive inspections of skin lap joints located above the mid-passenger doors. If repair is necessary, operators are instructed to do temporary or final repair, as applicable, per the applicable repair drawing.

• Service Bulletin A300-53-0356 describes procedures for repetitive inspections of skin lap joints located below the mid-passenger doors and in the lower fuselage aft of the wing. If repairs is necessary, operators are instructed to do a final repair per the applicable Airbus structural repair manual. The effectivity of this specific service bulletin excludes those airplanes modified by Airbus Modification 2611 in production.

• Service Bulletin A300-53-0357 describes procedures for repetitive inspections on skin lap joints located above the aft-passenger doors. If repair is necessary, operators are instructed to contact Airbus for repair instructions.

For Model A300-600 series airplanes, Airbus has issued Service Bulletin A310-53-6129, Revision 02, dated December 13, 2001, which describes procedures for repetitive ultrasonic inspections to detect cracking in skin lap joints located above the mid-passenger doors, and repair if necessary.

For Model A310 series airplanes, Airbus has issued Service Bulletin A310-53-2112, dated December 26, 2000, which describes procedures for repetitive ultrasonic inspections to detect cracking in skin lap joints located below the aft passenger door, and repair if necessary.

Accomplishment of the actions specified in the service bulletins are intended to adequately address the identified unsafe condition.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD actions is necessary for products of this type design that are certificated for operation in the United States.

Explanation of Requirements of Proposed Rule

Since an unsafe condition has been identified that is likely to exist or develop on other airplanes of the same type design registered in the United States, the proposed AD would supersede AD 2000-02-39 to continue to require either a one-time ultrasonic inspection, or repetitive visual inspections and eventual ultrasonic inspection, to detect cracking of the longitudinal skin splice above the mid-passenger door panels, and corrective actions if necessary. The proposed AD would also require repetitive ultrasonic inspections to detect cracking of certain skin lap joints in additional areas of the fuselage, and repair if necessary. The actions would be required to be accomplished in accordance with the service bulletins described previously, except as discussed below.

Explanation of Change Made to Existing Requirements

The FAA has changed all references to a “detailed visual inspection” in the existing AD to “detailed inspection” in this action.

Explanation of Change to Applicability

In this proposed AD the FAA has revised the applicability of affected Airbus Model A300 series airplanes to “Airbus Model A300 B2 Series Airplanes” and “Airbus Model A300 B4 Series Airplanes” to match the most recent type certificate data sheet for the affected models.

Also, for Model A300 series airplanes, the applicability of the existing AD includes serial numbers “1 through 156 inclusive.” In this action the applicability for Airbus Model A300 B2 and B4 series airplanes has been changed to include serial numbers “0003 through 0156 inclusive.” The airplanes with serial numbers 1 and 2 were destroyed by the manufacturer.

No Flight With Cracks

Airbus Service Bulletins A300-53-0354, Revision 02; A300-53-0356; and A300-53-6129, Revision 02; allow flight with cracking of certain lengths, as specified in the applicable service bulletin. This proposed AD would not allow flight with any cracking, regardless of crack length. We have determined that because of the safety implications and consequences associated with such cracking, any cracking must be repaired before further flight.

Difference Between the Proposed AD and the Service Information

Operators should note that, although the service bulletins specify that the manufacturer may be contacted for disposition of certain repair conditions and repetitive inspections after a final repair, this proposal would require the repair of those conditions to be accomplished in accordance with a method approved by either the FAA, or the DGAC (or its delegated agent). In light of the type of repair that would be required to address the identified unsafe condition, and consonance with existing bilateral airworthiness agreements, the FAA has determined that, for this proposed AD, a repair approved by either the FAA or the DGAC would be acceptable for compliance with this proposed AD.

Cost Impacts

There are approximately 128 airplanes of U.S. registry that would be affected by this proposed AD.

The ultrasonic inspection that is currently required by AD 200-02-39 takes approximately 4 work hours per airplane to accomplish, at an average labor rate of $65 per work hour. Based on these figures, the cost impact of the currently required actions is estimated to be $260 per airplane.

The detailed inspection that is currently required by AD 2000-01-39 takes approximately 2 work hours per airplane to accomplish, at an average labor rate of $65 per work hour. Based on these figures, the cost impact of the currently required actions is estimated to be $130 per airplane.

The ultrasonic inspection that is proposed in this AD action would take approximately 1 work hour per airplane to accomplish, at an average rate of $65 per work hour. Based on these figures, the cost impact of this proposed inspection on U.S. operators is estimated to be $8,320, or $65 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government.Therefore, it is determined that this proposal would not have federalism implications under Executive Order 13132.

For the reasons discussed above, I certify that this proposed regulation (1) Is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11557 (65 FR 5756, February 7, 2000), and by adding a new airworthiness directive (AD), to read as follows:

Airbus: Docket 2001-NM-111-AD. Supersedes AD 2000-02-39, Amendment 39-11557.

Applicability: Model A300 B2 series airplanes; A300 B4 series airplanes; A300 B4-600, B4-600R, and C4-605R Variant F (Collectively Called A300-600) series airplanes; and A310 series airplanes; certificated in any category.

Compliance: Required as indicated, unless accomplished previously.

To detect and correct cracking of certain skin lap joints, which could result in reduced structural integrity and decompression of the airplane, accomplish the following:

Restatement of Certain Requirements of AD 2000-02-39

Ultrasonic or Detailed Visual Inspection

(a) For Model A300 series airplanes having serial number (S/N) 0003 through 0156 inclusive: Within 14 days after January 31, 2000 (the effective date of AD 2000-02-39, amendment 39-11557), accomplish the requirements of either paragraph (a)(1) or (a)(2) of this AD, in accordance with Airbus All Operators Telex (AOT) A300-53A0352, dated January 4, 2000.

(1) Perform a one-time ultrasonic inspection to detect cracking of the longitudinal skin splice above the mid-passenger door panels below stringer 11 (left- and right-hand) and between frames 28A and 30A.

(i) If no cracking is detected: No further action is required by this paragraph.

(ii) If any cracking is detected: Before further flight, accomplish the requirements of paragraph (b) of this AD.

(2) Perform a detailed inspection to detect cracking of the longitudinal skin splice above the mid-passenger door panels below stringer 11 (left- and right-hand) and between frames 28A and 30A.

Note 1: For the purposes of this AD, a detailed inspection is defined as: “An intensive visual examination of a specific structural area, system, installation, or assembly to detect damage, failure, or irregularity. Available lighting is normally supplemented with a direct source of good lighting at intensity deemed appropriate by the inspector. Inspection aids such as mirrors, magnifying lenses, etc., may be used. Surface cleaning and elaborate access procedures may be required.”

(i) If no cracking is detected: Accomplish the requirements of paragraphs (a)(2)(i)(A) and (a)(2)(i)(B) of this AD.

(A) Repeat the detailed inspection thereafter at intervals not to exceed 80 flight cycles; and

(B) Within 90 days after January 31, 2000: Accomplish the requirements of paragraph (a)(1) of this AD.

(ii) If any cracking is detected: Before further flight, accomplish the requirements of paragraph (b) of this AD.

Corrective Actions

(b) For airplanes on which any cracking is detected during any inspection required by paragraph (a)(1) or (a)(2) of this AD: Before further flight, install either a temporary or final repair, in accordance with Airbus AOT A300-53A0532, dated January 4, 2000.

(1) If a temporary repair is installed: Prior to the accumulation of 2,000 flight cycles after the installation of the repair, install the final repair.

(2) If a final repair is installed: No further action is required by paragraphs (a) and (b) of this AD.

New Requirements of This AD

Inspections and Corrective Actions: Model A300 B2 and B4 Series Airplanes

(c) For Model A300 B2 and A300 B4 series airplanes with S/Ns 0003 through 0305 inclusive: From the airplane interior, do an ultrasonic inspection to detect cracking of the skin lap joint located above the mid-passenger door panel below stringer 11, between frames 28A and 31, on the left and right sides of the airplane, as applicable, per the Accomplishment Instructions of Airbus Service Bulletin A300-53-0354, Revision 02, dated December 13, 2001 Do the inspection at the times specified in paragraphs (c)(1) or (c)(2) of this AD, as applicable. Accomplishment of this inspection terminates the repetitive inspections required by paragraph (a)(2)(i)(A) of this AD.

(1) For airplanes with S/Ns 0003 through 0156 inclusive, except those airplanes on which the final repair in AOT A300-53A0352, Dated January 4, 2000; or Airbus Service Bulletin A300-53-0354, Revision 02, dated December 13, 2001, has been accomplished: Do the inspection within 2,500 flight cycles after the inspection per paragraph (a) of this AD, or within 14 days after the effective date of this AD, whichever occurs later. If no cracking is detected, repeat the inspection thereafter at intervals not to exceed 2,500 flight cycles.

(2) For airplanes with S/Ns 0157 through 0305 inclusive, except those airplanes on which the final repair in Airbus Sevice Bulletin A300-53-0354, Revision 02, dated December 13, 2001, has been accomplished: Do the initial inspection at the applicable time specified in paragraph (c)(2)(i) or (c)(2)(ii) of this AD. If no cracking is detected, repeat the inspection thereafter at intervals not to exceed 6,500 flight cycles.

(i) For airplanes with less than 20,500 flight cycles as of the effective date of this AD: Inspect before the accumulation of 20,500 total flight cycles or within 19 months after the effective date of this AD, whichever occurs later.

(ii) For airplanes with 20,500 total flight cycles or more, but less than 26,500 total flight cycles as of the effective date of this AD: Inspect within 500 flight cycles after the effective date of this AD.

(d) Accomplishment of the actions specified in Airbus Service Bulletin A300-53-0354, Revision 01, dated December 26, 2000, before the effective date of this AD, is considered acceptable for compliance with the requirements of paragraph (c) of this AD.

(e) If any cracking is detected during any inspection per paragraph (c) of this AD: Do paragraphs (e)(1) and (e)(2) of this AD, as applicable.

(1) If any crack is detected in Area A as defined in Figure 1 of Airbus Service Bulletin A300-53-0354, Revision 02, dated December 13, 2001: Before further flight, repair per a method approved by either the Manager, International Branch, ANM-116, Transport Airplane Directorate, FAA, or the Direction Générale de l'Aviation Civile (DGAC) (or its delegated agent).

(2) If any crack is detected in Area B as defined in Figure 1 of Airbus Service Bulletin A300-53-0354, Revision 02, dated December 13, 2001: Before further flight, do a temporary repair or final repair, as applicable, per the Accomplishment Instructions of the service bulletin.

(f) For Model A300 B2 and A300 B4 series airplanes with S/Ns 0003 through 0305 inclusive which have been repaired per paragraph (d)(2) of this AD: Do paragraph (f)(1) of (f)(2) of this AD, as applicable.

(1) If a temporary repair has been accomplished: Within 2,000 flight cycles after doing the temporary repair, do the final repair per the Accomplishment Instructions of Airbus Service Bulletin A300-53-0354, Revision 02, dated December 13, 2001.

(2) If a final repair has been accomplished: Perform repetitive inspections per a method and at intervals approved by either the Manager, International Branch, ANM-116, Transport Directorate, FAA, or the DGAC (or its delegated agent).

(g) For Model A300 B2 and A300 B4 series airplanes, except those airplanes with Airbus Modification 2611 accomplished in production: Prior to the accumulation of 30,300 total flight cycles, or within 19 months after the effective date of this AD, whichever occurs later, do the inspections in paragraphs (g)(1) and (g)(2) of this AD.

(1) From the airplane interior: Do an ultrasonic inspection to detect cracking of the skin lap joint located below the mid-passenger door panel, below stringer 27, between frames 28A and 30A, on the left and right sides of the airplane, as applicable, per the Accomplishment Instructions of Airbus Service Bulletin A300-53-0356, dated December 26, 2000.

(i) If no cracking is detected: Repeat the inspection required by paragraph (g)(1) of this AD thereafter at intervals not to exceed 4,100 flight cycles.

(ii) If any cracking is detected in area A as defined in Figure 1 of Airbus Service Bulletin A300-53-0356: Before further flight, repair the affected area per a method approved by either the Manager, International Branch, ANM-116, or the DGAC (or its delegated agent). Upon completion of the repair, do repetitive inspections of the affected area per a method and at intervals approved by one of the airworthiness authorities listed above.

(2) Do an external ultrasonic inspection to detect cracking of the skin lap joint located in the lower fuselage, aft of the wing, below the mid-passenger door panel, below stringer 52, between frames 56 and 58, on the left and right sides of the airplane, as applicable, per the Accomplishment Instructions of Airbus Service Bulletin A300-53-0356, dated December 26, 2000. If an internal or external repair doubler approved by the FAA or the DGAC (or its delegated agent), of Airbus design origin, has been installed in this area, the doubler does not need to be removed for inspection of this area.

(i) If no cracking is detected: Repeat the inspection required by paragraph (g)(2) of this AD thereafter at intervals not to exceed 4,100 flight cycles.

(ii) If any cracking is detected in Area B as defined in Figure 1 of Airbus Service Bulletin A300-53-0356: Before further flight, do a final repair per the Accomplishment Instructions of Airbus Service Bulletin A300-53-0356.

(h) For Model A300 B2 and A300 B4 series airplanes, except those on which Airbus Service Bulletin A300-53-0209 has been accomplished: From the airplane interior, do an ultrasonic inspection to detect cracking of the skin lap joint located below the aft-passenger door panel, below stringer 28, between frames 72 and 76 on the left and right sides of the airplane, as applicable, per the Accomplishment Instructions of Airbus Service Bulletin A300-53-0357, dated December 26, 2000. If an internal or external repair doubler is installed in this area, inspection of this area is not required. Perform the inspection at the later of the times specified in paragraphs (h)(1) and (h)(2) of this AD.

(1) Prior to the accumulation of 24,100 total flight cycles for S/Ns 0003 through 0156 inclusive, or 29,500 total flight cycles for S/Ns 0157 through 0305 inclusive.

(2) Within 2,000 flight cycles or 19 months after the effective date of this AD, whichever occurs first.

(i) If no cracking is detected during the inspection required by paragraph (h) of this AD: Repeat the inspection required by paragraph (h) of this AD at the intervals specified in paragraph (i)(1) and (i)(2) of this AD, as applicable.

(1) For Model A300 B2 and A300 B4 series airplanes with S/Ns 003 through 0156 inclusive: Repeat the inspection thereafter at intervals not to exceed 3,400 flight cycles.

(2) For Model A300 B2 and A300 B4 series airplanes with S/Ns 0157 through 0305 inclusive: Repeat the inspection thereafter not to exceed 5,400 flight cycles.

(j) For all Model A300 B2 and A300 B4 series airplanes; if any cracking is detected during the inspection required by paragraph (h) of this AD; Before further flight, repair the affected area, per a method approved by either the Manager, International Branch, ANM-116, or the DGAC (or its delegated agent).

Inspections and Corrective Actions: Model A310 Series Airplanes

(k) For Model A310 series airplanes; prior to the accumulation of 29,500 total flight cycles, or within 19 months after the effective date of this AD, whichever occurs later: From the airplane interior, do an ultrasonic inspection to detect cracking of the skin lap joint located below the aft-passenger door panel, below stringer 28, between frame 72 and frame 76, on the right and left sides of the airplane, as applicable, per the Accomplishment Instructions of Airbus Service Bulletin A310-53-2112, dated December 26, 2000. If an internal or external repair doubler is installed in any inspection area, inspection of that specific area is not required.

(1) If no cracking is detected: Repeat the inspection thereafter at intervals not to exceed 5,400 flight cycles.

(2) If any cracking is detected: Before further flight, repair the affected area, per a method and at repetitive intervals approved by either the Manager, International Branch, ANM-116, or the DGAC (or its delegated agent).

Inspections and Corrections Actions: Model A300-600 Series Airplanes

(l) For Model A300-600 series airplanes: From the airplane interior, do an ultrasonic inspection to detect cracking of the skin lap joint located above the mid-passenger door panel, below stringer 11, between frames 28A and 31, on the right and left sides of the airplane, as applicable, per the Accomplishment Instructions of Airbus Service Bulletin A300-53-6129, Revision 02, dated December 13, 2001. Do the inspection at the applicable time specified in paragraph (l)(1), (l)(2), or (l)(3) of this AD. If no cracking is detected, repeat the inspection thereafter at intervals not to exceed 6,500 flight cycles.

(1) For airplanes with less than 20,500 flight cycles as of the effective date of this AD: Inspect before the accumulation of 20,500 total flight cycles or within 19 months after the effective date of this AD, whichever occurs later.

(2) For airplanes with 20,500 total flight cycles or more, but less than 26,500 total flight cycles as of the effective date of this AD: Inspect within 500 flight cycles after the effective date of this AD.

(3) For airplanes with 26,500 total flight cycles or more as of the effective date of this AD: Inspect within 200 flight cycles or 30 days after the effective date of this AD, whichever occurs later.

(m) If any cracking is detected during any inspection per paragraph (l) of this AD: Do paragraphs (m)(1) and (m)(2) of this AD, as applicable.

(1) If any crack is detected in Area A as defined in Figure 1 of Airbus Service Bulletin A300-53-619, Revision 02, dated December 13, 2001: Before further flight, repair per a method approved by either the Manager, International Branch, ANM-116, or the DGAC (or its delegated agent).

(2) If any crack is detected in Area B as defined in figure 1 of Airbus Service Bulletin A300-53-6129, Revision 02, dated December 13, 2001: Before further fight, do a temporary repair or final repair, as applicable, per the Accomplishment Instructions of Airbus Service Bulletin A300-53-6129, Revision 02, dated December 13, 2001.

(n) For airplanes which have been repaired per paragraph (m)(2) of this AD: Do paragraph (n)(1) or (n)(2) of this AD, as applicable.

(1) If a temporary repair has been accomplished: Within 2,000 flight cycles after doing the temporary repair, do the final repair per the Accomplishment Instructions of Airbus Service Bulletin A300-53-6129, Revision 02, dated December 13, 2001.

(2) If a final repair has been accomplished: Perform repetitive inspections per a method and at intervals approved by either the Manager, International Branch, ANM-116, or the DGAC (or its delegated agent).

Credit for Previous Service Bulletin Revision

(o) Accomplishment of the actions in Airbus Service Bulletin A300-53-6129, Revision 01, dated December 26, 2000, before the effective date of this AD, is considered acceptable for compliance with the requirements of paragraph (1) of this AD.

Submission of Inspection Results to Manufacture Not Required

(p) Although the service bulletins referenced in this AD specify to submit information to the manufacture, this AD does not include such a requirement.

Alternative Methods of Compliance

(q)(1) In accordance with 14 CFR 39.19, the Manager, International Branch, ANM-116, is authorized to approve alternative methods of compliance for this AD.

(2) Alternative methods of compliance, approved previously in accordance with AD 2000-02-39, amendment 39-11557, are approved as alternative methods of compliance with the applicable actions in this AD.

Note 2: The subject of this AD is addressed in French airworthiness directive 2002-639(B), dated December 24, 2002.

Dated: Issued in Renton, Washington, on December 11, 2003.
Kevin M. Mullin,
Acting Manager, Transport Airplane Directorate, Aircraft Certification Service.

[FR Doc. 03-31194 Filed 12-17-03; 8:45 am]

BILLING CODE 4910-13-M